SURFACE TRANSPORTATION BOARD

[Docket No. FD 36528]

South Point & Ohio Railroad, LLC—Operation Exemption—Lawrence Economic Development Corporation

South Point & Ohio Railroad, LLC (SPOR), a noncarrier, has filed a verified notice of exemption pursuant to 49 CFR 1150.31 to operate approximately 1,277 feet of track in South Point, Ohio (the Line), owned by Lawrence Economic Development Corporation (LEDC), also a noncarrier. The Line extends from a point of connection with the Kenova District main line of Norfolk Southern Railway Company northward to an industrial park owned by LEDC. The Line has no mileposts. According to SPOR, no common carrier service has previously been offered on the Line.

Pursuant to a Lease, Development and Marketing Services Agreement (Agreement) between SPOR and LEDC,¹ SPOR will lease the Line, provide common carrier rail service on the Line, and operate as needed over connecting ancillary track located within the LEDC-owned industrial park. SPOR states that the Agreement would be effectuated upon the effective date of the exemption, and upon the satisfaction of several other conditions precedent as set forth in the Agreement. According to SPOR, its obligation to provide common carrier rail service is anticipated to commence on or after August 15, 2021.

¹ SPOR filed a copy of the Agreement, see Macrie—Continuance in Control Exemption—N.J. Seashore Lines, Inc., FD 35296, slip op. at 3-4 (STB served Aug. 31, 2010), in both redacted, public form and under seal in unredacted form, along with a motion for protective order pursuant to 49 CFR 1104.14. That motion was granted in a decision served on July 20, 2021.

SPOR states that the proposed transaction does not involve, and the Agreement does not contain, any provision or agreement that would limit future interchange on the Line with a third-party connecting carrier.

Further, SPOR certifies that its projected annual revenue will not exceed $5 million and that the proposed transaction will not result in SPOR's becoming a Class I or II rail carrier.

The earliest this transaction may be consummated is August 15, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than August 6, 2021.

All pleadings, referring to Docket No. FD 36528, should be filed with the Surface Transportation Board via e-filing on the Board's website. In addition, a copy of each pleading must be served on SPOR's representative, Thomas J. Healey, Fletcher & Sippel LLC, 29 North Wacker Drive, Suite 800, Chicago, IL 60606.

According to SPOR, this action is categorically excluded from environmental review under 49 CFR 1105.6(c) and from historic preservation reporting requirements under 49 CFR 1105.8(b).

Board decisions and notices are available at www.stb.gov.

Decided: July 26, 2021.
By the Board, Scott M. Zimmerman, Acting Director, Office of Proceedings.
Brendetta Jones,
Clearance Clerk.

[FR Doc. 2021-16243 Filed 7-29-21; 8:45 am]

BILLING CODE 4915-01-P